CONSUMER PRODUCT SAFETY COMMISSION

16 CFR Parts 1112, 1130, and 1240

[CPSC Docket No. CPSC-2020-0010]

Safety Standard for Crib Bumpers/Liners; Withdrawal

AGENCY: Consumer Product Safety Commission.

ACTION: Termination of rulemaking.

SUMMARY: On May 16, 2022, the President signed into law the Safe Sleep for Babies Act of 2021 (SSBA), requiring that crib bumpers, “regardless of the date of manufacture, shall be considered a banned hazardous product” under the Consumer Product Safety Act (CPSA). In light of that new statutory direction, CPSC is terminating its pending rulemaking proceeding on crib bumpers/liners, and in a separate notice of proposed rulemaking, proposing to codify the requirements for crib bumpers pursuant to the SSBA. The Commission is also terminating the related proposed rule amendment to include the safety standard for crib bumpers/liners in the list of notice of requirements, as well as the related proposed amendment to identify “crib bumpers/liners” as a durable infant or toddler product subject to CPSC's consumer registration requirements.

DATES: The notice of proposed rulemaking published at 85 FR 18878, April 3, 2020, is withdrawn as of July 26, 2022.

ADDRESSES: U.S. Consumer Product Safety Commission, 4330 East West Highway, Bethesda, MD 20814.

FOR FURTHER INFORMATION CONTACT: Pamela J. Stone, Attorney Advisor, U.S. Consumer Product Safety Commission, 4330 East West Highway, Bethesda, MD 20814; telephone: (301) 504-7619; email: pstone@cpsc.gov.

SUPPLEMENTARY INFORMATION: Pursuant to section 3 of the Safe Sleep for Babies Act of 2021, H.R. 3182, Public Law 117-126 (SSBA), the Commission is terminating the rulemaking on crib bumpers/liners it commenced under section 104 of the Consumer Product Safety Improvement Act of 2008 (CPSIA), CPSC Docket No. CPSC-2020-0010.¹ Under a separate Federal Register document, published elsewhere in this issue of the Federal Register, CPSC is issuing a proposed rule stating that crib bumpers are banned under the SSBA.

¹ On July 19, 2022, the Commission voted 5-0 to issue this notice terminating rulemaking.

On April 3, 2020, the Commission published a notice of proposed rulemaking (NPR) that set forth proposed requirements for a safety standard for crib bumpers/liners pursuant to section 104 of the CPSIA (85 FR 18878). The Commission received comments on the proposed rule but has not published a final rule.

On May 3, 2022, Congress passed the SSBA, which the President signed on May 16, 2022. Section 3 of the SSBA requires that, not later than 180 days after enactment, “crib bumpers, regardless of the date of manufacture, shall be considered a banned hazardous product under section 8 of the Consumer Product Safety Act (15 U.S.C. 2057).” 15 U.S.C. 2057e.

In light of the SSBA's mandate that crib bumpers shall be considered a banned hazardous product under section 8 of the CPSA, CPSC is no longer proposing to regulate crib bumpers under the CPSIA and is terminating that rulemaking to establish a consumer product safety standard for crib bumpers/liners. In a separate Federal Register notice, CPSC proposes to issue a rule stating that crib bumpers are banned pursuant to the SSBA's designation of crib bumpers as a banned hazardous product.

The termination of the crib bumpers/liners rulemaking includes termination of the proposal to amend 16 CFR part 1130 to include “crib bumpers/liners” in the definition of a “durable infant or toddler product.” 85 FR at 18893. The termination of this rulemaking additionally terminates the proposal to issue a notice of requirements for crib bumpers/liners, which proposed to amend 16 CFR part 1112 to include 16 CFR part 1240, the CFR section where the crib bumpers/liners standard would have been codified if the standard had become final. Id.

Alberta E. Mills,
Secretary, Consumer Product Safety Commission.

[FR Doc. 2022-15905 Filed 7-25-22; 8:45 am]

BILLING CODE 6355-01-P